DEPARTMENT OF ENERGY

Federal Energy Regulatory Commission

[Docket Nos. CP04-223-000, CP04-293-000, CP04-358-000]

KeySpan LNG, L.P., Algonquin Gas Transmission Company; Notice of Public Scoping Meetings for the Proposed Keyspan LNG Facility Upgrade Project and Algonquin-Keyspan Interconnect Pipeline Project

June 23, 2004.

As referenced in the June 17, 2004 “Notice of Extension of the Scoping Period for the Proposed KeySpan LNG Facility Upgrade Project,” the staff of the Federal Energy Regulatory Commission will conduct two additional public scoping meetings for the above-referenced projects. These meetings are scheduled at the request of U.S. Senators Jack Reed and Lincoln Chafee, and U.S. Representatives Patrick Kennedy and James Langevin. A previous public scoping meeting was held on June 3, 2004, in Providence, Rhode Island.

The locations and times of the scoping meetings are as follows:

Wednesday, July 7, 2004, Roger Williams Middle School, Providence, RI, 278 Thurbers Road (Auditorium), 7 p.m. (e.s.t.);

Thursday, July 8, 2004, Gaudet Middle School, Middletown, RI, 1113 Aquidneck Avenue (Cafetorium; entrance off Turner Road), 7 p.m. (e.s.t.).

Magalie R. Salas,
Secretary.

[FR Doc. E4-1446 Filed 6-29-04; 8:45 am]

BILLING CODE 6717-01-P